DEPARTMENT OF LABOR

Employment and Training Administration

[TA-W-70,137]

J.T. Posey Company/Arcadia Manufacturing Group, Arcadia, CA; Notice of Termination of Investigation

Pursuant to Section 223 of the Trade Act of 1974, as amended, an investigation was initiated on May 18, 2009 in response to a worker petition filed on behalf of workers of J.T. Posey Company/Arcadia Manufacturing Group, Arcadia, California.

The petitioning group of workers is covered by an active certification, (TA-W-61,804) which expires on September 18, 2009. Consequently, further investigation in this case would serve no purpose, and the investigation has been terminated.

Signed at Washington, DC, this 30th day of June, 2009.
Richard Church,
Certifying Officer, Division of Trade Adjustment Assistance.

[FR Doc. E9-18044 Filed 7-28-09; 8:45 am]

BILLING CODE 4510-FN-P